DEPARTMENT OF THE INTERIOR

Fish and Wildlife Service

[FWS-R1-NWRS-2008-N0061; 1265-0000-10137-S3]

Willapa National Wildlife Refuge, Pacific County, WA

AGENCY: Fish and Wildlife Service, Interior.

ACTION: Notice of intent to prepare a comprehensive conservation plan and associated environmental impact statement; request for comments.

SUMMARY: We, the U.S. Fish and Wildlife Service (Service), intend to prepare a comprehensive conservation plan (CCP) for the Willapa National Wildlife Refuge (Refuge) located in Pacific County, Washington. An environmental impact statement (EIS) evaluating effects of various CCP alternatives will also be prepared. We provide this notice in compliance with our CCP policy to advise other government agencies and the public of our intentions, and to obtain suggestions and information on the scope of issues to be considered in the planning and environmental review process. We are also requesting public comments. See DATES and ADDRESSES for details.

DATES: To ensure consideration, we must receive your written comments by May 16, 2008. We will announce opportunities for public input throughout the planning process.

ADDRESSES: Additional information concerning the Willapa Refuge is available on the following Internet site: http://www.fws.gov/willapa/WillapaNWR. Send your comments or requests for more information by any of the following methods.

E-mail: FW1PlanningComments@fws.gov. Please include Willapa Refuge in the subject.

Fax: Attn: Charlie Stenvall, (360) 484-3109.

U.S. Mail: Charlie Stenvall, Project Leader, Willapa National Wildlife Refuge Complex, 3888 SR 101, Ilwaco, WA 98624-9707.

FOR FURTHER INFORMATION CONTACT: Charlie Stenvall, Project Leader, phone (360) 484-3482.

SUPPLEMENTARY INFORMATION:

Introduction

With this notice, we initiate our process for developing a CCP for Willapa Refuge. This notice complies with our CCP policy and National Environmental Policy Act of 1969, as amended (NEPA) (42 U.S.C. 4321 et seq.) to advise other Federal and State agencies, Tribes, and the public of our intention to conduct detailed planning on this Refuge, and obtain suggestions and information on the scope of issues to consider during development of the CCP/EIS.

Background

The CCP Process

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System; consistent with sound principles of fish and wildlife management, conservation, legal mandates, and our policies. In addition to outlining broad management direction for conserving wildlife and their habitats, CCPs identify wildlife-dependent recreational opportunities available to the public, including opportunities for hunting, fishing, wildlife observation and photography, and environmental education and interpretation. We will review and update the CCP at least every 15 years in accordance with the Improvement Act.

Each unit of the National Wildlife Refuge System was established for specific purposes. We use these purposes as the basis for developing and prioritizing the management goals, objectives, and potential public uses for each refuge. The planning process is a way for us and the public to evaluate management goals and objectives, and determine the best possible approach for conserving important wildlife habitat, while providing wildlife-dependent recreation opportunities compatible with a refuge's establishing purposes and the mission of the National Wildlife Refuge System.

Our CCP process provides participation opportunities for Tribal, State, and local governments; agencies; organizations; and the public. At this time we encourage input in the form of issues, concerns, ideas, and suggestions for the future management of the Refuge.

We will prepare the EIS for this project in accordance with the requirements NEPA; NEPA regulations (40 CFR parts 1500-1508); other appropriate Federal laws and regulations; and our policies and procedures for compliance with those laws and regulations.

During the CCP planning process, many elements will be considered including: wildlife and habitat management and public use opportunities. Public input into the planning process is essential. The CCP for Willapa Refuge will describe desired conditions for the Refuge and how the Service will implement management strategies over the next 15 years. Until the CCP is completed, Refuge management will continue to be guided by official Refuge purposes; Federal legislation regarding management of National Wildlife Refuges; and other legal, regulatory, and policy guidance.

Willapa National Wildlife Refuge

The Willapa Refuge was established as the Willapa Harbor Migratory Bird Refuge by Executive Order No. 7541 signed by President Franklin D. Roosevelt on January 11, 1937. Under Executive Order No. 7721, signed October 8, 1937, the Refuge boundary was enlarged and the name was changed to Willapa National Wildlife Refuge. The Refuge was established to protect migrating and wintering populations of brant, waterfowl, shorebirds, and other migratory birds. The goals of the Refuge, revised in 1997, are to: (1) Protect and restore tideland habitat and associated migratory bird species representative of the native biological diversity of Willapa Bay; (2) preserve and protect unique ecosystems associated with Willapa Bay; (3) manage for the conservation and recovery of threatened and endangered species in their natural ecosystem; and (4) provide opportunities for wildlife and wildland-dependent recreation, education, and research.

Preliminary Issues, Concerns, and Opportunities

The FWS has identified the following preliminary issues, concerns, and opportunities for consideration, additional issues may be identified during public scoping:

Tidal Restoration. Is tidal restoration a desirable action, and if so, which refuge units should be considered? Which units if any should remain under current management practices?

Land Acquisition. Should expansion of the Refuge's boundary be considered, and if so, why, and which properties should be proposed for Refuge expansion?

Recovery of the federally threatened Western Snowy Plover. What management actions should be implemented to better protect the Western Snowy Plover from disturbance and predation, while measures to protect and restore habitat are occurring?

Elk Management. What management actions should be implemented to alleviate threats to rare plants and animals, from elk, on the Leadbetter Unit?

Forest Management. What forest management practices should be implemented to restore forest complexity and biodiversity?

Wildlife-Dependent Recreational Uses. Should the current wildlife-dependent recreational uses on the Refuge be expanded? If so, what opportunities are feasible and compatible with the Refuge's purposes that would satisfy the needs of the public?

As part of the CCP planning process, a full range of alternatives will be developed that address the issues and associated management strategies. The alternatives' environmental effects will be evaluated in the environmental impact statement. Comments we receive will be taken into consideration in developing goals, key issues and management strategies, and draft alternatives. Additional opportunities for public participation will occur throughout the CCP process, which is expected to be completed in early 2010.

Public Availability of Comments

Before including your address, phone number, e-mail address, or other personal identifying information in your comment, you should be aware that your entire comment—including your personal identifying information—may be made publicly available at any time. While you can ask us in your comment to withhold your personal identifying information from public review, we cannot guarantee that we will be able to do so.

Date: April 2, 2008.
Renne R. Lohoefener,
Regional Director, Region 1, Portland, Oregon.

[FR Doc. E8-7452 Filed 4-8-08; 8:45 am]

BILLING CODE 4310-55-P